SECURITIES AND EXCHANGE COMMISSION

In the Matter of Cape Systems Group, Inc., Caribbean Cigar Company, Casual Male Corp., Cell Power Technologies, Inc., Cellmetrix, Inc. (f/k/a BCAM International, Inc.), Cellular Products, Inc. (n/k/a 872 Main Street Corp.), Ceptor Corp., CGS Scientific Corp., and Ciprico, Inc., File No. 500-1; Order of Suspension of Trading

October 19, 2010.

It appears to the Securities and Exchange Commission that there is a lack of current and accurate information concerning the securities of Cape Systems Group, Inc. because it has not filed any periodic reports since the period ended December 31, 2006.

It appears to the Securities and Exchange Commission that there is a lack of current and accurate information concerning the securities of Caribbean Cigar Company because it has not filed any periodic reports since the period ended September 30, 1998.

It appears to the Securities and Exchange Commission that there is a lack of current and accurate information concerning the securities of Casual Male Corp. because it has not filed any periodic reports since the period ended February 3, 2001.

It appears to the Securities and Exchange Commission that there is a lack of current and accurate information concerning the securities of Cell Power Technologies, Inc. because it has not filed any periodic reports since the period ended April 30, 2006.

It appears to the Securities and Exchange Commission that there is a lack of current and accurate information concerning the securities of Cellmetrix, Inc. (f/k/a BCAM International, Inc.) because it has not filed any periodic reports since the period ended June 30, 2000.

It appears to the Securities and Exchange Commission that there is a lack of current and accurate information concerning the securities of Cellular Products, Inc. (n/k/a 872 Main Street Corp.) because it has not filed any periodic reports since the period ended December 31, 1994.

It appears to the Securities and Exchange Commission that there is a lack of current and accurate information concerning the securities of Ceptor Corp. because it has not filed any periodic reports since the period ended September 30, 2007.

It appears to the Securities and Exchange Commission that there is a lack of current and accurate information concerning the securities of CGS Scientific Corp. because it has not filed any periodic reports since the period ended February 29, 2000.

It appears to the Securities and Exchange Commission that there is a lack of current and accurate information concerning the securities of Ciprico, Inc. because it has not filed any periodic reports since the period ended December 31, 2007.

The Commission is of the opinion that the public interest and the protection of investors require a suspension of trading in the securities of the above-listed companies.

Therefore, it is ordered, pursuant to Section 12(k) of the Securities Exchange Act of 1934, that trading in the securities of the above-listed companies is suspended for the period from 9:30 a.m. EDT on October 19, 2010, through 11:59 p.m. EDT on November 1, 2010.

By the Commission.
Elizabeth M. Murphy,
Secretary.

[FR Doc. 2010-26698 Filed 10-19-10; 11:15 am]

BILLING CODE 8011-01-P